DEPARTMENT OF HOMELAND SECURITY

Coast Guard

46 CFR Part 169

[Docket No. USCG-2020-0107]

RIN 1625-AC51

Survival Craft Equipment-Update To Type Approval Requirements; Correction

AGENCY: Coast Guard, DHS.

ACTION: Final rule; correcting amendment.

SUMMARY: The Coast Guard is correcting a final rule published in the Federal Register on November 14, 2022. The final rule updated type approval requirements for certain types of survival craft equipment. The final rule had a typographical error in one of the sections. This document corrects that error.

DATES: Effective August 4, 2023.

FOR FURTHER INFORMATION CONTACT: For information about this document call or email Ms. Stephanie Groleau, Lifesaving & Fire Safety Division (CG-ENG-4), Coast Guard; telephone 202-372-1381, email Stephanie.M.Groleau@uscg.mil.

SUPPLEMENTARY INFORMATION: On November 14, 2022, the Coast Guard published a final rule titled “Survival Craft Equipment-Update to Type Approval Requirements” at 87 FR 68270. The final rule updated type approval requirements for certain types of survival craft equipment, including hatchets. The final rule contained a spelling error in the regulatory text of 46 CFR 169.527(c)(4) where “Hatch” was used instead of “Hatchet”. This document corrects that error and adopts the correct spelling for § 169.527(c)(4).

We find good cause under provisions in 5 U.S.C. 553(d)(3) to make this correction effective upon publication because delaying the effective date is unnecessary and contrary to the public interest. Waiting 30 days after publication to correct the error within the final rule is unnecessary and contrary to the public's interest in having access to accurate and current regulations. The November 14, 2022, final rule preamble discussion indicated the changes were intended for hatchets, but the spelling was inaccurate.

List of Subjects in 46 CFR Part 169

Fire prevention, Incorporation by reference, Marine safety, Reporting and recordkeeping requirements, Schools, Vessels.

For the reasons stated in the preamble, the Coast Guard is correcting 46 CFR part 169 with the following correcting amendment:

PART 169—SAILING SCHOOL VESSELS

1. The authority citation for part 169 continues to read as follows:

Authority: 33 U.S.C. 1321(j); 46 U.S.C. 3306, 6101; E.O. 11735, 38 FR 21243, 3 CFR, 1971-1975 Comp., p. 793; DHS Delegation 00170.1, Revision No. 01.2; § 169.117 also issued under the authority of 44 U.S.C. 3507.

§ 169.527 [Amended]

2. In § 169.527(c)(4), remove the text “Hatch” and add, in its place, the text “Hatchet”.

Dated: August 1, 2023.
Michael T. Cunningham,
Chief, Office of Regulations and Administrative Law, U.S. Coast Guard.

[FR Doc. 2023-16655 Filed 8-3-23; 8:45 am]

BILLING CODE 9110-04-P